DEPARTMENT OF AGRICULTURE

Notice of Request for Revision of a Currently Approved Information Collection; Digitized Advisory Committee and Research and Promotion Background Information Supplemental Lists and Including Marketing in Collection

AGENCY: Department of Agriculture

ACTION: Notice and request for comments.

SUMMARY: This notice announces the U.S. Department of Agriculture's (USDA) intention to revise to the currently approved through October 31, 2027, Advisory Committee and Research and Promotion Background Information AD-755 and Supplemental Lists—Agricultural Marketing Service (AMS), Commodity (Research and Promotion and Marketing Order) specific questionnaire. The revised form will be changed to Advisory Committee or Commodity Board Background Information and include the supplemental information that will allow applicants to answer questions in more detail of their foreign citizenship identification (passport number, passport expiration date, and issuing country). In addition, if an applicant is a foreign national, identify if this person resided in the United States (U.S.) for 3 years or more continuous years. The revised form will meet the required U.S. Office of Management and Budget's Statistical Policy Directive No. 15 of standards for maintaining, collecting, and presenting Federal data. The primary objective is to determine the qualifications, suitability and availability of a candidate to serve on advisory committees and/or commodity boards. Lastly, the AD-755 Form and supplemental questionnaire are being digitized to allow applicants to access and complete the application form electronically.

DATES: Comments on this notice must be received by August 1, 2025 to be assured of consideration. Comments must be postmarked 10 business days prior to the deadline to ensure timely receipt.

ADDRESSES: USDA invites interested persons to submit comments on this notice. Written Comments: Comments may be submitted through one of the following methods:

□ Mailed to the attention of Ms. Cikena Reid, Committee Management Officer, the White House Liaison Office, 1400 Independence Avenue SW, the Whitten Building, Room 542-A, Washington, DC 20250; fax: 202-720-9286; or by email: cikena.reid@usda.gov.

□ Federal eRulemaking Portal: This website provides the ability to type short comments directly into the comment field on this web page or attach a file for lengthier comments. Go to http://www.regulations.gov. Follow the on-line instructions at that site for submitting comments.

□ Hand- or courier-delivered submittals: Deliver to White House Liaison Office, U.S. Department of Agriculture, 1400 Independence Avenue SW, the Whitten Building, Room 542-A, Washington, DC 20250-3700.

Instructions: All items submitted by mail or electronic mail must include the Agency name and docket number. Comments received in response to this notice will be made available for public inspection and posted without change, including any personal information, to http://www.regulations.gov.

FOR FURTHER INFORMATION CONTACT: Cikena Reid, USDA Committee Management Officer, Office of the Secretary, U.S. Department of Agriculture, 1400 Independence Ave. SW, the Whitten Building, Room 542-A, Washington, DC 20250; office phone: 202-720-2406; email: cikena.reid@usda.gov.

SUPPLEMENTARY INFORMATION: In accordance with the Paperwork Reduction Act of 1995 (44 U.S.C. chapter 35), this notice announces the U.S. Department of Agriculture's (USDA) intention to request an extension for—and a revision to the Advisory Committee and Research and Promotion Background Information collection form and applicable supplemental questionnaires.

The revised form and supplemental information will allow applicants to answer questions in more detail of their foreign citizenship identification (passport number, passport expiration date, and issuing country). In addition, if an applicant is a foreign national, identify if this person resided in the United States (U.S.) for 3 years or more continuous years. The primary objective is to determine the qualifications, suitability, and availability of a candidate to serve on advisory committees, research and promotion and marketing order boards. The primary objective is to determine the qualifications, suitability, and availability of a candidate to serve on advisory committees, research and promotion, and marketing boards. Lastly, the AD-755 Form and supplemental questionnaire are being digitized for the receipt of applications to allow applicants to access and complete the form electronically and more securely safeguard data and information collection.

Title: Advisory Committee and Research and Promotion Background Information.

OMB Number: 0505-0001.

Expiration Date of Approval: October 31, 2027.

Type of Request: Revision of a currently approved information collection form document and with a revised research and promotion and marketing order board supplemental lists with digitization to the receipt of applications.

Abstract: The primary objective is to determine the qualifications, suitability and availability of a candidate to serve on advisory committees and/or research and promotion boards. The information will be used to both conduct background clearances on the candidates and to compile annual reports regarding membership.

Estimate of Burden: Public reporting burden for this collection of information is estimated to average 30 minutes per response.

Respondents: Individuals.

Estimated Number of Respondents: 5,500.

Estimated Number of Responses per Respondent: One (1).

Estimated Total Annual Burden on Respondents: 5,500.

Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Comments may be sent to Ms. Cikena Reid, Committee Management Officer, the White House Liaison Office, 1400 Independence Avenue SW, the Whitten Building, Room 536-A, Washington, DC 20250; fax: 202-720-9286; or by email: cikena.reid@usda.gov. Comments must be postmarked 10 business days prior to the deadline to ensure timely receipt.

All comments received will be available for public inspection during regular business hours at the same address.

All responses to this notice will be summarized and included in the request for OMB approval. All comments will become a matter of public record.

Dated: May 27, 2025.
Cikena Reid,
USDA Committee Management Officer.

[FR Doc. 2025-09835 Filed 5-30-25; 8:45 am]

BILLING CODE 3410-01-P